SMALL BUSINESS ADMINISTRATION

National Women's Business Council; Quarterly Public Meeting

AGENCY: National Women's Business Council, Small Business Administration.

ACTION: Notice of open public meeting.

DATES: The meeting will be held on September 24, 2014 from 2:30 p.m. to 5:00 p.m. EST.

ADDRESSES: The meeting will be held at the Ronald Reagan Building, located at 1300 Pennsylvania Avenue NW., in Washington, DC. The business meeting will be in the Horizon Ballroom, and the workshops will be held in the Polaris Suites.

SUPPLEMENTARY INFORMATION: Pursuant to section 10(a)(2) of the Federal Advisory Committee Act (5 U.S.C., Appendix 2), SBA announces the meeting of the National Women's Business Council. The National Women's Business Council is tasked with providing policy recommendations on issues of importance to women business owners to the President, Congress, and the SBA Administrator.

This meeting will focus on Women's Access to Markets, one of the NWBC's four pillars. The business portion will include remarks from the Council Chair, Carla Harris, and an update from each of the NWBC committees. There will also be review of NWBC's FY2013 research agenda, and an introduction of the FY2014 and FY2015 projects. The majority of time will be spent in breakout sessions and workshops geared at different audiences. The breakout topics are: exporting, corporate procurement, and government contracting.

FOR FURTHER INFORMATION CONTACT: The meeting is open to the public however advance notice of attendance is requested. To RSVP and confirm attendance, the general public should use the following link: http://bit.ly/rsvpfor924. Anyone wishing to make a presentation to the NWBC at this meeting must either email their interest to info@nwbc.gov or call the main office number at 202-205-3850.

For more information, please visit the National Women's Business Council Web site at www.nwbc.gov.

Diana Doukas,
SBA Committee Management Officer.

[FR Doc. 2014-21272 Filed 9-8-14; 8:45 am]

BILLING CODE 8025-01-P